DEPARTMENT OF TRANSPORTATION

Federal Aviation Administration

14 CFR Part 23

Damage Tolerance and Fatigue Evaluation of Structure

AGENCY: Federal Aviation Administration (FAA), DOT.

ACTION: Final rule; technical amendment.

SUMMARY: This action corrects a paragraph reference that appeared in the final rule, Airworthiness Standards; Airframe Rules Based on European Joint Aviation Requirements, which the FAA published in the Federal Register on February 9, 1996. In that final rule, the FAA inadvertently changed a paragraph reference. The intent of this action is to correct the error in the regulation to ensure the requirement is clear and accurate.

DATES: Effective Date: April 11, 2008.

FOR FURTHER INFORMATION CONTACT: Pat Mullen, Regulations and Policy, ACE-111, Federal Aviation Administration, 901 Locust Street, Kansas City, MO 64106; telephone (816) 329-4111; e-mail pat.mullen@faa.gov.

SUPPLEMENTARY INFORMATION: On February 9, 1996, the FAA published in the Federal Register (61 FR 5147) a final rule that amended § 23.573(b) by removing the reference “§ 23.571(c)” and adding the reference “§ 23.571(a)(3)” in its place. Paragraph (a)(3) of § 23.571 does not exist, and the reference to § 23.571(c) should have remained. This document corrects § 23.573(b) to reflect the correct paragraph reference, § 23.571(c). This correction will not impose any additional requirements.

Technical Amendment

This technical amendment will correct § 23.573(b) to properly reference § 23.571(c).

Justification for Immediate Adoption

Because this action corrects an incorrect paragraph reference, the FAA finds that notice and public comment under 5 U.S.C. 553(b) is unnecessary. For the same reason, the FAA finds that good cause exists under 5 U.S.C. 553(d) for making this rule effective upon publication.

List of Subjects in 14 CFR Part 23

Aircraft, Aviation safety, Signs and symbols.

The Amendment

Accordingly, Title 14 of the Code of Federal Regulations (CFR) part 23 is amended as follows:

PART 23—AIRWORTHINESS STANDARDS: NORMAL, UTILITY, ACROBATIC, AND COMMUTER CATEGORY AIRPLANES

1. The authority citation for part 23 continues to read as follows:

Authority: 49 U.S.C. 106(g), 40013, 44701, 44702, 44704.

2. Amend § 23.573 by revising the first sentence in paragraph (b) introductory text to read as follows:

§ 23.573 Damage tolerance and fatigue evaluation of structure.

* * * * *

(b) Metallic airframe structure. If the applicant elects to use § 23.571(c) or § 23.572(a)(3), then the damage tolerance evaluation must include a determination of the probable locations and modes of damage due to fatigue, corrosion, or accidental damage. * * *

* * * * *

Issued in Washington, DC, on April 7, 2008.
Pamela Hamilton-Powell,
Director, Office of Rulemaking.

[FR Doc. E8-7649 Filed 4-10-08; 8:45 am]

BILLING CODE 4910-13-P